NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public. Section 701.36 of the NCUA Rules and Regulations regulates ownership of fixed assets by federal credit unions. This rule ensures that federal credit unions do not undertake undue risk related to fixed assets. Specifically, section 701.36 limits the aggregate amount of fixed assets, defines the duration for which property can be held before it must be occupied or disposed and, defines prohibited transactions. This information collection enables NCUA to evaluate waiver requests of these limitations.

DATES: Comments will be accepted until October 7, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is reinstating and amending the collection for 3133-0040. 12 CFR 701.36 requires that a federal credit union with $1 million or more in assets obtain the approval of the NCUA before investing in fixed assets in excess of 5% of shares and retained earnings. This section also requires that a federal credit union prepare a definitive plan for full use of premises acquired for future expansion if it has not fully occupied the premises within one year of acquisition, and that a federal credit union that has not at least partially occupied such premises within three years, six years for unimproved real property, obtain NCUA approval to continue without partial occupation. This section also requires a federal credit union that does not dispose of abandoned property within 5 years of abandonment obtain NCUA approval to continue to hold the property. Federal credit unions must also obtain NCUA approval prior to investing in property from a prohibited party. The rule requires federal credit unions to submit documentation in support of any of the above requests. This information collection requirement is submitted for approval. The intent of the regulation and associated information collection is to prevent, or at least curb, excess investments in fixed assets and the related costs and expenses that may be beyond the financial capability of the credit union. Statistics indicate a correlation between high fixed asset investments and difficulty in achieving positive earnings. Further, the Federal Credit Union Act does not permit federal credit unions to own real estate for purposes other than for providing financial services to members. NCUA uses the information collection to evaluate the impact a waiver approval may have on the safety and soundness of a federal credit union. The increase in burden hours is associated with the termination of the Regulatory Flexibility Program. This program exempted federal credit unions in certain standing from the 5 percent limitation on fixed assets. The end of the program has resulted in an increase in waiver requests. The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: Federal Credit Union Ownership of Fixed Assets.

OMB Number: 3133-0040.

Form Number: None.

Type of Review: Reinstatement, with change, of a previously approved collection.

Description: The rule limits the aggregate amount of fixed assets, defines the duration for which property can be held before it must be occupied or disposed and, defines prohibited transactions. Credit unions may apply for a waiver to these limitations, which is the purpose of this data collection.

Respondents: Federal credit unions.

Estimated No. of Respondents/Recordkeepers: 193.

Estimated Burden Hours per Response: 14.7 hours.

Frequency of Response: On occasion.

Estimated Total Annual Burden Hours: 2,830 hours.

Estimated Total Annual Cost: $82,213.80

By the National Credit Union Administration, Board August 29, 2013.
Gerard Poliquin,
Secretary of the Board.

[FR Doc. 2013-21493 Filed 9-4-13; 8:45 am]

BILLING CODE 7535-01-P